DEPARTMENT OF JUSTICE

Notice of Lodging of Proposed Consent Decree Under the Oil Pollution Act

On November 17, 2021, the Department of Justice lodged a proposed consent decree with the United States District Court for the District of Montana in the lawsuit entitled United States et al. v. Bridger Pipeline LLC, Civil Action No. 1:21-cv-00122-SPW-KLD.

The United States and the State of Montana filed this lawsuit against Bridger Pipeline LLC (“Bridger”) pursuant to the Oil Pollution Act, 33 U.S.C. 2701-2762, and state law. The United States and State of Montana's complaint seeks to recover damages for injury to, destruction of, loss of, or loss of use of natural resources resulting from the discharge of oil from Bridger's Poplar Pipeline into the Yellowstone River near Glendive, Montana in January 2015. The proposed consent decree requires Bridger to pay $2,000,000 to resolve the United States and the State of Montana's claim for natural resource damages arising from the discharge. Of this amount, $1,739,795 will be placed in a natural resource damages fund managed by the State of Montana and used for addressing injuries alleged in the complaint. Those harms include injuries to surface water, migratory birds and their supporting ecosystems, fish, including the pallid sturgeon, and associated riverine aquatic habitat, and human service losses. Restoration action alternatives will be evaluated and selected by federal and state natural resource damages trustees in a future restoration plan before the funds will be spent. The restoration plan will be subject to public comment. The remaining $260,205 portion of the settlement funds will be deposited in the U.S. Department of Interior Natural Resource Damage Assessment and Restoration Fund, as reimbursement for the United States natural resource damage assessment costs.

The publication of this notice opens a period for public comment on the consent decree. Comments should be addressed to the Assistant Attorney General, Environment and Natural Resources Division, and should refer to United States et al. v. Bridger Pipeline LLC, D.J. Ref. No. 90-5-1-1-11262/1. All comments must be submitted no later than thirty (30) days after the publication date of this notice. Comments may be submitted either by email or by mail in the following manner:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $6.50 (25 cents per page reproduction cost) payable to the United States Treasury.

Jeffrey Sands,
Assistant Chief, Environmental Enforcement Section, Environment and Natural Resources Division.

[FR Doc. 2021-25606 Filed 11-23-21; 8:45 am]

BILLING CODE 4410-15-P